CORPORATION FOR NATIONAL AND COMMUNITY SERVICE

Agency Information Collection Activities; Submission to the Office of Management and Budget for Review and Approval; Comment Request; AmeriCorps Enrollment and Exit Form

AGENCY: Corporation for National and Community Service.

ACTION: Notice of information collection; request for comment.

SUMMARY: The Corporation for National and Community Service, operating as AmeriCorps, has submitted a public information collection request (ICR) entitled AmeriCorps Enrollment and Exit Form for review and approval in accordance with the Paperwork Reduction Act.

DATES: Written comments must be submitted to the individual and office listed in the ADDRESSES section by July 26, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Amy Borgstrom, at (202) 422-2781 or by email to aborgstrom@cns.gov.

SUPPLEMENTARY INFORMATION: The OMB is particularly interested in comments which:

• Evaluate whether the proposed collection of information is necessary for the proper performance of the functions of AmeriCorps, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on February 24, 2021 at Vol. 86, 11268. This comment period ended April 25, 2021. No public comments were received from this Notice.

Title of Collection: AmeriCorps Enrollment and Exit Form.

OMB Control Number: 3045-0006. Type of Review: Renewal.

Respondents/Affected Public: Individuals and Households.

Total Estimated Number of Annual Responses: 296,000.

Total Estimated Number of Annual Burden Hours: 49,333.

Abstract: This information collection allows AmeriCorps to collect information from potential AmeriCorps members and from members ending their term of service. AmeriCorps seeks to renew the current information collection. The revisions are intended to make the gender categories more inclusive and add three new questions that are key to ensuring we are engaging members from diverse backgrounds and are responsive to requirements of the American Rescue Plan. The information collection will otherwise be used in the same manner as the existing application. AmeriCorps also seeks to continue using the current application until the revised application is approved by OMB. The current application is due to expire on September 30, 2023.

Dated: June 14, 2021.
Erin Dahlin,
Chief Program Advisor.

[FR Doc. 2021-13557 Filed 6-24-21; 8:45 am]

BILLING CODE 6050-28-P